DEPARTMENT OF DEFENSE

Office of the Secretary

Meeting of the DoD Healthcare Quality Initiative Review Panel

AGENCY: Department of Defense.

ACTION: An executive/administration meeting for DoD Healthcare Quality Initiatives Review Panel has been scheduled for November 9 & 10, 2000.

SUMMARY: This notice set forth the meeting of the DoD Healthcare Quality Initiatives Review Panel. Notice of meeting is required under The Federal Advisory Committee Act.

DATES: November 9 & 10, 2000.

ADDRESSES: Sheraton Crystal City, 1800 Jefferson Davis Hwy, Arlington, VA 22202.

Time: November 9th, 8:00 am to 5:30 pm; November 10th, 8:00 am to 5:30 pm.

FOR FURTHER INFORMATION CONTACT: Gia Edmonds at (703) 933-8325.

Dated: September 20, 2000.
L.M. Bynum,
Alternate OSD Federal Register Liaison Officer, Department of Defense.

[FR Doc. 00-27463 Filed 10-25-00; 8:45 am]

BILLING CODE 5001-10-M